DEPARTMENT OF COMMERCE

National Oceanic and Atmospheric Administration

50 CFR Part 622

[I.D. 060501B]

Fisheries of the Caribbean, Gulf of Mexico, and South Atlantic; Shrimp Fishery off the Southern Atlantic States; Reopening of the Penaeid Shrimp Fisheries off South Carolina and Georgia

AGENCY: National Marine Fisheries Service (NMFS), National Oceanic and Atmospheric Administration (NOAA), Commerce.

ACTION: Reopening of the penaeid shrimp fisheries in the exclusive economic zone (EEZ) off South Carolina and Georgia.

SUMMARY: NMFS reopens the trawl fishery for penaeid shrimp, i.e., brown, pink, and white shrimp, in the EEZ off South Carolina and Georgia. This reopening is taken in accordance with the procedures and criteria specified in the Fishery Management Plan for the Shrimp Fishery of the South Atlantic Region (FMP) and its implementing regulations. The reopening is intended to provide optimal utilization of these penaeid shrimp resources while protecting the spawning stock of white shrimp that has been severely depleted by unusually cold weather conditions.

DATES: The reopening is effective 12:01 a.m., eastern daylight savings time, June 16, 2001.

FOR FURTHER INFORMATION CONTACT: Dr. Steve Branstetter, 727-570-5305; fax: 727-570-5583; e-mail: Steve.Branstetter@noaa.gov.

SUPPLEMENTARY INFORMATION: The commercial penaeid shrimp fishery in the South Atlantic region is managed under the FMP. The FMP was prepared by the South Atlantic Fishery Management Council (Council) and is implemented under the authority of the Magnuson-Stevens Fishery Conservation and Management Act (Magnuson-Stevens Act) by regulations at 50 CFR part 622.

Background

The FMP and implementing regulations at 50 CFR 622.35 (d) provide the procedures, criteria, and authority for a concurrent closure of the EEZ adjacent to those South Atlantic states that have closed their waters to the harvest of brown, pink, and white shrimp to protect the white shrimp spawning stock if it has been severely depleted by cold weather. Consistent with those procedures and criteria, the States of Georgia and South Carolina closed their waters to the harvest of brown, pink, and white shrimp and requested that the Council recommend that NMFS implement a concurrent closure of the EEZ off Georgia and South Carolina. The Council approved the States′ requests and in turn requested that NMFS concurrently close the EEZ off Georgia and South Carolina to the harvest of brown, pink, and white shrimp. NMFS determined that the recommended closure conformed with the procedures and criteria specified in the FMP and implementing regulations, the Magnuson-Stevens Act, and other applicable law. NMFS implemented the closure effective March 13, 2001 (66 FR 15357, March 19, 2001).

During the closure, no person could: (1) Trawl for brown, pink, or white shrimp in the EEZ off Georgia or South Carolina; (2) possess on board a fishing vessel brown, pink, or white shrimp in or from the EEZ off Georgia or South Carolina unless the vessel is in transit through the area and all nets with a mesh size of less than 4 inches (10.2 cm) are stowed below deck; or (3) use or have on board a vessel trawling in that part of the EEZ off Georgia or South Carolina that is within 25 nautical miles of the baseline from which the territorial sea is measured a trawl net with a mesh size less than 4 inches (10.2 cm).

Termination of the Closure

The FMP and implementing regulations at 50 CFR 622.35 (d) state that: (1) The closure will be effective until the ending dates of the closures in the respective states' waters, but may be ended earlier based on the states' request; and (2) if the EEZ closure is ended earlier, NMFS will terminate the closure of the EEZ by filing a notification to that effect with the Office of the Federal Register. Based on biological sampling, the States of Georgia and South Carolina have determined that their respective State's waters will remain closed until sometime after June 16, 2001; however, they have requested the EEZ adjacent to their State's waters be opened effective 12:01 a.m. on June 16, 2001. Therefore, consistent with the procedures in the FMP and its implementing regulations, NMFS publishes this notification to reopen the EEZ off Georgia and South Carolina to the harvest of brown, pink, and white shrimp effective 12:01 a.m., eastern daylight savings time, June 16, 2001.

Classification

This action responds to the best available information recently obtained from the fishery. The June 16, 2001, reopening of the EEZ off Georgia and South Carolina to the harvest of brown, pink, and white shrimp will ensure adequate protection of the white shrimp stock and is necessary to avoid unwarranted adverse economic and social impacts on affected industry participants. Any delay in implementing the reopening would be contradictory to the FMP and its implementing regulations and contradictory to the public interest. NMFS finds for good cause that the implementation of this reopening cannot be delayed for 30 days. Accordingly, under 5 U.S.C. 553 (d), a delay in the effective date is waived.

This action is authorized by 50 CFR 622.35 (d) and is exempt from review under Executive Order 12866.

Authority: 16 U.S.C. 1801 et seq.

Dated: June 12, 2001.
Bruce C. Morehead,
Acting Director, Office of Sustainable Fisheries, National Marine Fisheries Service.

[FR Doc. 01-15298 Filed 6-13-01; 1:54 pm]

BILLING CODE 3510-22-S